NATIONAL CREDIT UNION ADMINISTRATION

Agency Information Collection Activities: Submission to OMB for Reinstatement, With Change, of a Previously Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is related to NCUA's Chartering and Field of Membership Manual (Chartering Manual) and is being published to obtain comments from the public. The Chartering Manual establishes requirements for organizing and amending a federal credit union (FCU) charter and field of membership (FOM).

DATES: Comments will be accepted until October 30, 2013.

ADDRESSES: Interested parties are invited to submit written comments to the NCUA Contact and OMB Reviewer listed below:

NCUA Contact: Tracy Crews, National Credit Union Administration, 1775 Duke Street Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews, NCUA, 1775 Duke Street, Alexandria, VA 22314-3428, or at (703) 518-6444. Requests for additional information about the Chartering Manual should be directed to Susan Ryan, NCUA Consumer Access Analyst, at the same address, in the NCUA Office of Consumer Protection, Division of Consumer Access, (703) 518-1150, DCAMail@NCUA.gov.

SUPPLEMENTARY INFORMATION:

I. Abstract and Request for Comments

The FCU Act establishes the rules for FCU chartering and field of membership. 12 U.S.C. 1753(5), 1754, 1759. The NCUA Board, after consideration of public comment, incorporated the Chartering Manual into NCUA's regulations at 12 CFR 701.1, and Appendix B to part 701, in 2008. 73 FR 73392, Dec. 2, 2008. NCUA most recently issued for public comment and amended the Chartering Manual in 2013. 78 FR 13460, Feb. 28, 2013.

NCUA is issuing this notice and request for comment on the reinstatement and amendment of the previously approved information collection related to the Chartering Manual, 3133-0015. Staff has incorporated into this collection other previously proposed, expired or combined information collections also related to the Chartering Manual, including 3133-0116 and 3133-0178. The collections are not new and the estimated amount of burden hours is based on NCUA's experience with this regulation and the current number of CUs. The amount is generally decreasing as a result of technology and the continuing trend of annual decreases in the number of CUs.

NCUA staff reviewed each of the four chapters and appendices of the Chartering Manual to identify all current information collection requirements. The four chapters are: FCU Chartering; Field of Membership Requirements for FCUs; Low-Income CUs and CUs Serving Underserved Areas; and Charter Conversions; as well as related appendices. NCUA uses the information it collects pursuant to the Chartering Manual to regulate CUs' compliance with the FCU Act and NCUA regulations and to protect the safety and soundness of CUs and the National Credit Union Share Insurance Fund.

As a preliminary matter, those persons choosing to organize a new FCU must comply with certain information collection requirements upon starting the FCU outlined in this Chartering Manual. Over the past three years, organizers have established an average of approximately two new FCUs each year. We estimate each new FCU must spend approximately 160 hours to initially comply with the Chartering Manual's information collection requirements (ICR), for a total annual collection of 320 hours.

For current FCUs, NCUA staff also reviewed each chapter and appendices to the Chartering Manual to estimate current annual burden hours for CUs attached to each ICR. We have listed these estimates below in the Data section.

NCUA does not believe that CUs will incur any additional labor costs as a result of the Chartering Manual requirements since these are in accordance with the CUs' usual and customary business practices. The Chartering Manual addresses integral parts of a CU's operation as a member-owned, not-for-profit financial cooperative. Since a CU could not operate as a chartered and insured credit union without complying with these collections, there is no additional labor cost burden.

The NCUA requests that you send your comments on this collection to the location listed in the addresses section. Your comments should address: (a) The necessity of the information collection for the proper performance of NCUA, including whether the information will have practical utility; (b) the accuracy of our estimate of the burden (hours and cost) of the collection of information, including the validity of any methodology and assumptions used; (c) ways we could enhance the quality, utility, and clarity of the information to be collected; and (d) ways we could minimize the burden of the collection of the information on the respondents such as through the use of automated collection techniques or other forms of information technology. It is NCUA's policy to make all comments available to the public for review.

II. Data

Title: NCUA Chartering and Field of Membership Manual, 12 CFR 701.1, and App. B to Part 701.

OMB Number: 3133-0015.

Form Numbers: NCUA Forms 4000, 4001, 4008, 4012, 4015, 4015-EZ, 4221, 4401, 4505, 4506, 9500, 9501, 9600.

Type of Review: Reinstatement, with change.

Description: The NCUA Chartering and Field of Membership Manual sets forth the NCUA's current policies and procedures for granting and permitting change to a federal credit union charter.

Estimated No. of Respondents/Recordkeepers: 9,990.

Frequency of Response: Recordkeeping, Reporting and On occasion.

Estimated Total Annual Hours Requested: 15,397.5.

Estimated Total Annual Cost: N/A.

Specifically, NCUA Staff identified the following chapters and appendices as containing ICRs with the following number of respondents and the estimated annual burden in hours, as follows:

Chapter 1. FCU Chartering

ICRs: Business Plan for New Charters, Wording for Proposed FOM, NCUA Forms 4001, 4008, 4012, 9500, 9501.

Respondents/record-keepers: 2 per year.

Estimated annual burden: 160 hours.

Total annual hours: 320 hours

ICRs related to the Chartering Manual for All FCUs:

Chapter 2. Field of Membership Requirements for FCUs

ICR: Single Common Bond and Multiple Common Bond Amendments, NCUA Forms 4015 and 4015-EZ, and FOM Internet Application.

Respondents: 9,915.

Estimated annual burden: 30 minutes.

Total annual hours: 4,957.5.

ICR: Community Charter Conversion and Expansion Applications.

Respondents: 39.

Estimated annual burden: 160 hours.

Total annual hours: 6,240.

Chapter 3. Low-Income CUs and CUs Serving Underserved Areas

ICR: Application to Add an Underserved Area.

Respondents: 21.

Estimated annual burden: 160 hours.

Total annual hours: 3,360.

Chapter 4. Charter Conversions

ICR: NCUA Forms 4000, 4221, 4401, 4505, 4506, 9500, 9501, 9600.

Respondents/record-keepers: 13.

Estimated annual burden: 40 hours.

Total annual hours: 520.

By the National Credit Union Administration Board on September 25, 2013.
Gerard Poliquin,
Secretary of the Board.

[FR Doc. 2013-23802 Filed 9-27-13; 8:45 am]

BILLING CODE 7535-01-P